SMALL BUSINESS ADMINISTRATION

[Disaster Declaration #16547 and #16548; NORTH DAKOTA Disaster Number ND-00081]

Presidential Declaration Amendment of a Major Disaster for Public Assistance Only for the State of North Dakota

AGENCY: U.S. Small Business Administration.

ACTION: Amendment 1.

SUMMARY: This is an amendment of the Presidential declaration of a major disaster for Public Assistance Only for the State of North Dakota (FEMA-4553-DR), dated 07/09/2020.

Incident: Flooding.

Incident Period: 04/01/2020 through 04/25/2020.

DATES: Issued on 07/09/2020.

Physical Loan Application Deadline Date: 09/08/2020.

Economic Injury (EIDL) Loan Application Deadline Date: 04/09/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of North Dakota, dated 07/09/2020, is hereby amended to include the following areas as adversely affected by the disaster.

Primary Counties: Kidder, Wells

All other information in the original declaration remains unchanged.

(Catalog of Federal Domestic Assistance Number 59008)

Cynthia Pitts,
Acting Associate Administrator for Disaster Assistance.

[FR Doc. 2021-00224 Filed 1-8-21; 8:45 am]

BILLING CODE 8026-03-P